DEPARTMENT OF ENERGY

Office of Environmental Management; Environmental Management Advisory Board Reestablishment

Pursuant to Section 14(a)(2)(A) of the Federal Advisory Committee Act (Pub. L. No. 92-463), and in accordance with Title 41 of the Code of Federal Regulations, section 102-3.65(a), and following consultation with the Committee Management Secretariat, General Services Administration, notice is hereby given that the Environmental Management Advisory Board has been reestablished for a two-year period beginning in March 2004. The Board will provide advice to the Assistant Secretary for Environmental Management.

The Board provides the Assistant Secretary for Environmental Management with information and strategic advice on corporate issues, with a focus on achieving closure of selected sites by 2006. It recommends options to resolve difficult issues faced in the Environmental Management program including: contracts and acquisition strategies, public and worker health and safety, integration and disposition of waste, regulatory agreements, roles and authorities, risk based end-state activities and risk reduction, cost-benefit analyses, program performance and functionality, and science requirements and applications. Consensus recommendations to the Department of Energy from the Board on programmatic nationwide resolution of numerous difficult issues will help achieve the Department's objective of the safe and efficient cleanup of its contaminated sites.

Additionally, the reestablishment of the Environmental Management Advisory Board has been determined to be essential to the conduct of Department of Energy business and to be in the public interest in connection with the performance of duties imposed on the Department of Energy by law and agreement. The Board will operate in accordance with the provisions of the Federal Advisory Committee Act, and rules and regulations issued in implementation of that Act.

Further information regarding this Advisory Board may be obtained from Ms. Rachel Samuel at (202) 586-3279.

Issued in Washington, DC on March 22, 2004.
James N. Solit,
Advisory Committee Management Officer.

[FR Doc. 04-6911 Filed 3-26-04; 8:45 am]

BILLING CODE 6450-01-P